DEPARTMENT OF STATE

[Public Notice 5102]

Announcement of Meetings of the International Telecommunication Advisory Committee

SUMMARY: The International Telecommunication Advisory Committee announces various meetings of the ITAC Study Groups for the remainder of the calendar year in preparation for technical and advisory group meetings of the International Telecommunication Union, Telecommunication Standardization Sector (ITU-T), and the OAS Inter American Telecommunication Commission (CITEL). Members of the public will be admitted to the extent that seating is available, and may join in the discussions, subject to the instructions of the Chair.

The International Telecommunication Advisory Committee (ITAC) will meet to prepare for ITU-T Study Group 3, Charging and Accounting Principles, on Thursday, July 28; Wednesday, August 17; and August 24, 2005, both from 2-4 p.m. in the Washington, DC metro area. Directions to the meeting location and conference bridge information (if any) may be obtained from Julian Minard: minardje@state.gov.

The International Telecommunication Advisory Committee (ITAC) will meet to prepare for ITU-T Study Group 17, Security, by e-mail between July 29 and August 3 and between September 5 and 10, 2005. An additional SG17 preparatory meeting will be held in the Washington, DC area on Thursday August 11, 2005. Access to these meetings may be arranged by contacting Julian Minard at minardje@state.gov.

The International Telecommunication Advisory Committee (ITAC) will meet to prepare for the ITU-T Advisory Group on Thursday, September 8; Thursday September 29; and Thursday, October 13, 2005, all from 2-4 p.m. Access to these meetings may be arranged by contacting Julian Minard at minardje@state.gov.

The International Telecommunication Advisory Committee (ITAC) will meet to prepare for the meeting of CITEL Permanent Consultative Committee I, Telecommunication Standardization, on Friday, July 29, from 9 a.m. -noon, and Tuesday, August 16, from 2-4 p.m. Access to these meetings may be arranged by contacting Julian Minard at minardje@state.gov.

The International Telecommunication Advisory Committee (ITAC) will meet to prepare for the meeting of the CITEL Permanent Executive Committee (COM/CITEL) on Wednesday, September 7; Wednesday, October 12; Wednesday, November 16; and Wednesday, November 30, all from 2-4 p.m. Access to these meetings may be arranged by contacting Julian Minard at minardje@state.gov.

Dated: July 6, 2005.
Anne Jillson,
Foreign Affairs Officer, International Communications & Information Policy, Department of State.

[FR Doc. 05-13789 Filed 7-12-05; 8:45 am]

BILLING CODE 4710-07-P